DEPARTMENT OF THE INTERIOR

Bureau of Land Management

[AZ-060-1230-00-PA]

Cocoraque Butte Area Use Travel Restriction

AGENCY: Bureau of Land Management.

ACTION: Notice.

SUMMARY: This order restricts all motorized vehicle use year round on public lands in the Cocoraque Butte area in the Tucson Field Office, Arizona. The existing Off Highway Vehicle (OHV) use designation limiting motorized travel to existing roads and trails established in the Phoenix Resource Management Plan remains unchanged. This order is issued under the authority of 43 CFR 8364.1.

The affected public land includes approximately 480 acres generally located south of the Cocoraque Ranch Road, in

Gila and Salt River Meridian, Arizona T.14 S.,R. 10 E., sec. 8, Pima County, Arizona

EFFECTIVE DATES: The restrictions shall be effective immediately until rescinded or modified by the Authorized Officer.

SUPPLEMENTARY INFORMATION: Current OHV use designations limit motorized vehicle travel to existing routes in the Cocoraque Butte area, which contains significant cultural values that are fragile and easily damaged or destroyed through intentional or unintentional actions. Public use in the affected area in increasing and expected to grow as public awareness of the area increases. Adverse impacts from damage to fragile and irreplaceable resources have occurred and are likely to continue unless management action is taken. The use restrictions excluding motor vehicle use within the affected area will reduce the potential adverse impacts on fragile resource values.

The Cocoraque Butte area described herein will be subject to the following use restriction: Unless otherwise authorized, no person shall use, drive or operate any motor vehicle in the restricted area. Persons who are exempt from the restriction include: (1) Any Federal, State, or local officers engaged in fire, emergency or law enforcement activities; (2) BLM employees engaged in official duties; (3) Persons authorized by BLM to operate motorized vehicles within the restricted area. Non motorized access or use is not affected by this restriction.

The area affected by this order will be posted with appropriate regulatory signs. Additional information is available in the Tucson Field Office at the address shown below.

PENALTIES: Violations of this restriction order are punishable by fines not to exceed $100,000 and/or imprisonment not to exceed 12 months.

FOR FURTHER INFORMATION CONTACT: Jesse Juen, Field Manager, Tucson Field Office, 12661 East Broadway Boulevard, Tucson, Arizona 85748; (520) 722-4289.

Jesse J. Juen,
Field Manager.

[FR Doc. 00-16461 Filed 6-30-00; 8:45 am]

BILLING CODE 4310-32-M